DEPARTMENT OF EDUCATION

34 CFR Chapter III

[ CFDA Number: 84.133B-3.]

Proposed Priority—National Institute on Disability and Rehabilitation Research—Rehabilitation Research and Training Centers

AGENCY: Office of Special Education and Rehabilitative Services, Department of Education.

ACTION: Proposed priority.

SUMMARY: The Assistant Secretary for Special Education and Rehabilitative Services proposes a priority for the Rehabilitation Research and Training Center (RRTC) Program administered by the National Institute on Disability and Rehabilitation Research (NIDRR). Specifically, this notice proposes a priority for an RRTC on Employment for Individuals with Intellectual and Developmental Disabilities. We take this action to focus research attention on an area of national need. We intend for this priority to contribute to improved employment outcomes of individuals with intellectual and developmental disabilities.

DATES: We must receive your comments on or before April 2, 2014.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Patricia Barrett, U.S. Department of Education, 400 Maryland Avenue SW., Room 5142, Potomac Center Plaza (PCP), Washington, DC 20202-2700.

Privacy Note: The Department's policy is to make all comments received from members of the public available for public viewing in their entirety on the Federal eRulemaking Portal at www.regulations.gov. Therefore, commenters should be careful to include in their comments only information that they wish to make publicly available.

FOR FURTHER INFORMATION CONTACT: Patricia Barrett. Telephone: (202) 245-6211 or by email: patricia.barrett@ed.gov.

If you use a telecommunications device for the deaf (TDD) or a text telephone (TTY), call the Federal Relay Service (FRS), toll free, at 1-800-877-8339.

SUPPLEMENTARY INFORMATION: This notice of proposed priority is in concert with NIDRR's currently approved Long-Range Plan (Plan). The Plan, which was published in the Federal Register on April 4, 2013 (78 FR 20299), can be accessed on the Internet at the following site: www.ed.gov/about/offices/list/osers/nidrr/policy.html.

Through the implementation of the Plan, NIDRR seeks to: (1) Improve the quality and utility of disability and rehabilitation research; (2) foster an exchange of research findings, expertise and other information to advance knowledge and understanding of the needs of individuals with disabilities and their family members, including those from among traditionally underserved populations; (3) determine effective practices, programs and policies to improve community living and participation, employment and health and function outcomes for individuals with disabilities of all ages; (4) identify research gaps and areas for promising research investments; (5) identify and promote effective mechanisms for integrating research and practice; and (6) disseminate research findings to all major stakeholder groups, including individuals with disabilities and their families in formats that are appropriate and meaningful to them.

This notice proposes one priority that NIDRR intends to use for one or more competitions in FY 2014 and possibly in later years. NIDRR is under no obligation to make an award under this priority. The decision to make an award will be based on the quality of applications received and available funding. NIDRR may publish additional priorities, as needed.

Invitation To Comment: We invite you to submit comments regarding this notice. To ensure that your comments have maximum effect in developing the notice of final priority, we urge you to identify clearly the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this proposed priority in Room 5142, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities. This program is also intended to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through well-designed research, training, technical assistance, and dissemination activities in important topical areas as specified by NIDRR. These activities are designed to benefit rehabilitation service providers, individuals with disabilities, family members, policymakers and other research stakeholders. Additional information on the RRTC program can be found at: http://www2.ed.gov/rschstat/research/pubs/resprogram.html#RRTC.

Program Authority: 29 U.S.C. 762(g) and 764(b)(2).

Applicable Program Regulations: 34 CFR part 350.

Proposed Priority: This notice contains one proposed priority.

RRTC on Employment for Individuals with Intellectual and Developmental Disabilities.

Background:

Intellectual and developmental disabilities are defined by limitations in adaptive functioning associated with substantial intellectual or physical impairments first evident in childhood (Schalock et al., 2010; Developmental Disabilities Assistance and Bill of Rights Act of 2000). It has been estimated that about 1 percent of working-age adults in the United States, or 1.96 million individuals, have intellectual and developmental disabilities (Houtenville, 2013; Larson et al., 2001). Persons with intellectual and developmental disabilities want to work (U.S. Senate Committee on Health, Education, Labor and Pensions, 2011). Although there are no national estimates of rates of employment specifically for persons with intellectual and developmental disabilities, data from the 2008-2010 American Community Survey (ACS)(U.S. Census Bureau, 2011) show an employment rate of only 23 percent among working age adults with cognitive disabilities, which includes individuals with intellectual and developmental disabilities. In the ACS data, an individual with a cognitive disability is a person with a physical, mental, or emotional condition that results in serious difficulty with concentration, memory, or decision-making.

For the population of individuals with intellectual and developmental disabilities who are employed in integrated community employment settings, other research has shown that they work an average of only 15 to 20 hours per week, typically at or only slightly above minimum wage (Human Services Research Institute, 2011). According to data gathered from a national survey of State intellectual and developmental disabilities agencies, significantly higher numbers of persons with intellectual and developmental disabilities participate in facility based work and non-work settings than in integrated competitive employment.¹ Data reported by these agencies show that of the total 566,188 individuals with intellectual and developmental disabilities in integrated employment, sheltered employment, and non-work settings in 2010, only 19 percent were in integrated, competitive employment (Butterworth et al., 2012). The reported number of individuals in integrated, competitive employment is virtually unchanged over the past few decades (Migliore et al., 2007; Butterworth et al., 2012).

¹ According to 34 CFR 361.5(b)(11) competitive employment must be performed in an integrated setting, and must result in a wage “that is not less than the customary wage and level of benefits paid by the employer for the same or similar work performed by individuals who are not disabled.” Integrated setting as it refers to employment is defined in 34 CFR 361(b)(33) as being a setting where applicants or eligible individuals interact with non-disabled individuals . . . to the same extent that non-disabled individuals in comparable positions interact with other persons.”

Researchers, advocates, policy makers, and providers of vocational rehabilitation and other employment services are seeking ways to improve employment outcomes and earned income for persons with intellectual and developmental disabilities. Research has identified a number of practices associated with successful employment outcomes for individuals with intellectual and developmental disabilities, including customized, person-centered job development and training; on-job coaching by professionals and co-workers; and computer technologies that guide, monitor, and provide quality control for specific work activities (Claes et al., 2010; McInnes et al., 2008; Van Laarhoven et al., 2009).

Research and development programs have developed and validated a number of effective job development, placement, and support practices for persons with intellectual and developmental disabilities. Through these practices individuals with intellectual and developmental disabilities can and do make valuable contributions to their employers and to their communities (Olson et al., 2001; Storey, 2003; Wehman, 2007; Hendricks, 2010).

However, as the low employment statistics, the high reliance on non-integrated work, and the low numbers of hours worked demonstrate, significant challenges remain. Among those challenges are: Increasing knowledge about effective ways to prepare persons with intellectual and developmental disabilities in their homes, schools, and communities for competitive integrated work; effectively bundling individual practices and experiences associated with desirable employment outcomes into more effective programs of employment supports; and scaling-up effective practices and programs to provide substantially increased opportunities for individuals with intellectual and developmental disabilities to experience well-designed, effective employment support. In addition, more effective methods for engaging employers in providing opportunities for individuals with intellectual and developmental disabilities to demonstrate their abilities as employees are also needed.

NIDRR seeks to fund an RRTC that will generate new knowledge about and expand access to practices that will improve employment outcomes and opportunities for individuals with intellectual and developmental disabilities and that will serve as a national resource center on employment for these individuals, their families, vocational rehabilitation and other employment service providers, employers, and policymakers.

References

Butterworth, J., Smith, F. A., Hall, A. C., Migliore, A., Winsor, J., Domin, D., & Timmons, J. C. (2012). State data: The national report on employment services and outcomes. Retrieved from http://statedata.info/statedatabook/img/statedata2011_Fweb.pdf.

Claes, C., Van Hove, G., Vandevelde, S., van Loon, J., & Schalock, R.L. (2010). Person-Centered Planning: Analysis of Research and Effectiveness. Intellectual and Developmental Disabilities, 48(6), pp. 432-453.

Developmental Disabilities Assistance and Bill of Rights Act of 2000 (Pub. L. 106-402).

Erickson, W., Lee, C., von Schrader, S. (2013). Disability Statistics from the 2011 American Community Survey (ACS). Ithaca, NY: Cornell University Employment and Disability Institute (EDI). Retrieved from www.disabilitystatistics.org.

Hendricks, D. (2010). Employment and adults with autism spectrum disorders: Challenges and strategies for success. Journal of Vocational Rehabilitation, 32(2), 125-134.

Houtenville, A. (2013). Annual Compendium of Disability Statistics. Durham, NH: University of New Hampshire, Institute on Disability. Retrieved from: http://www.disabilitycompendium.org/compendium-statistics/population-and-prevelance/1-10-civilians-ages-18-64-years-living-in-the-community-for-the-u-s-cognitive-disability

Human Services Research Institute (2011). National Core Indicators: Adult Consumer Survey 2010-2011. Cambridge, MA.

Larson, S.A., Lakin, K.C., Anderson, L., Lee, N.K., Lee, J.K., & Anderson, D. (2001). Prevalence of mental retardation and developmental disabilities: Estimates from the 1994/1995 National Health Interview Survey Disability Supplements. American Journal on Mental Retardation, 106(3), 231-252.

McInnes, M.M., Ozturk, O.D., McDermott, S., & Mann, H. (2008). Does Job Coaching Work?: Evidence from South Carolina. SSRN eLibrary. Retrieved from http://ssrn.com/abstract=1113170.

Migliore, A., Mank, D., Grossi, T., & Rogan, P. (2007). Integrated employment or sheltered workshops: Preferences of adults with intellectual disabilities, their families, and staff. Journal of Vocational Rehabilitation, 26(1), 5-19.

Olson, D., Cioffi, A., Yovanoff, P., & Mank, D. (2001). Employers' perceptions of employees with mental retardation. Journal of Vocational Rehabilitation, 16(2), 125-133.

Storey, K. (2003). A review of research on natural support interventions in the workplace for people with disabilities. International Journal of Rehabilitation Research, 26(2), 79-84.

Van Laarhoven, T., Johnson, J.W., Van Laarhoven-Myers, T., Grider, K.L., & Grider, K.M. (2009). The effectiveness of using a video iPod as a prompting device in employment settings. Journal of Behavioral Education, 18(2), pp. 119-141.

Schalock, R.L., Borthwick-Duffy, S.A., Bradley, V.J., Buntinx, W.H.E., Coulter, D.L., Craig, E.M., Gomez, S.C., Lachapelle, Y., Luckasson, R., Reeve, A., Shogren, K.A., Snell, M.E., Spreat, S., Tasse, M.J., Thompson, J.R., Verdugo-Alonso, M.A., Wehmeyer, M.L., & Yeager, M.H. (2010). Intellectual disability: Definition, classification, and systems of supports (11th ed.). Washington, DC: American Association on Intellectual and Developmental Disabilities.

U.S. Census Bureau, (2011). 2008-2010 Disability Employment Tabulation. American Community Survey. U.S. Government Printing Office, Washington, DC. (http://www.census.gov/people/disabilityemptab/data)

U.S. Senate Committee on Health, Education, Labor and Pensions, (2011). Full committee hearing-improving employment opportunities for persons with intellectual disabilities. Retrieved from http://www.help.senate.gov/hearings/hearing/?id=536891af-5056-9502-5d9c-9a3e588e3214.

Wehman, P. (2007). Real work for real pay: Inclusive employment for people with disabilities. Paul H Brookes Pub Co.

Definitions

Stages of Research: For purposes of this priority, the stages of research are from the notice of final priorities and definitions published in the Federal Register on June 7, 2013 (78 FR 34261).

(i) Exploration and Discovery means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration and discovery stage of research may also be used to inform decisions or priorities.

(ii) Intervention Development means the stage of research that focuses on generating and testing interventions that have the potential to improve outcomes for individuals with disabilities. Intervention development involves determining the active components of possible interventions, developing measures that would be required to illustrate outcomes, specifying target populations, conducting field tests, and assessing the feasibility of conducting a well-designed intervention study. Results from this stage of research may be used to inform the design of a study to test the efficacy of an intervention.

(iii) Intervention Efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications.

(iv) Scale-Up Evaluation means the stage of research during which a project analyzes whether an intervention is effective in producing improved outcomes for individuals with disabilities when implemented in a real-world setting. During this stage of research, a project tests the outcomes of an evidence-based intervention in different settings. The project examines the challenges to successful replication of the intervention, and the circumstances and activities that contribute to successful adoption of the intervention in real-world settings. This stage of research may also include well-designed studies of an intervention that has been widely adopted in practice, but that lacks a sufficient evidence-base to demonstrate its effectiveness.

Proposed Priority

The Assistant Secretary for Special Education and Rehabilitative Services proposes a priority for an RRTC on Employment for Individuals with Intellectual and Developmental Disabilities.

The RRTC must contribute to improving the employment outcomes of individuals with intellectual and developmental disabilities by:

(a) Conducting well-designed research activities in one or more of the following priority areas, focusing on individuals with intellectual and developmental disabilities as a group or on individuals in specific disability or demographic subpopulations of individuals with intellectual and developmental disabilities:

(i) Technology to improve employment outcomes for individuals with intellectual and developmental disabilities.

(ii) Individual, work environment, or employer factors associated with improved employment opportunities or outcomes for individuals with intellectual and developmental disabilities.

(iii) Interventions that contribute to improved employment outcomes for individuals with intellectual and developmental disabilities. Interventions include any one or combination of the following: strategies, practices, programs, policies, or tools that, when implemented as intended, contribute to improvements in opportunities or outcomes for individuals with disabilities, and may include interventions focused on individuals, families, employers, or service providers.

(iv) Effects of current or modified government practices, policies, and programs on employment outcomes for individuals with intellectual and developmental disabilities.

(v) Practices and policies that contribute to improved employment outcomes for transition-aged youth with intellectual and developmental disabilities.

(b) Identifying and focusing its research on one or more specific stages of research, including specifically at least one significant evaluation project focused on scaling up existing validated employment interventions or programs to multiple employment settings. If the RRTC is to conduct research that can be categorized under more than one of the research stages, or research that progresses from one stage to another, those stages should be clearly specified. (These stages and their definitions are provided in the Definitions section of this notice.)

(c) Serving as a national resource center related to employment for individuals with intellectual and developmental disabilities, their families, and other stakeholders by conducting knowledge translation activities that include, but are not limited to:

(i) Providing information and technical assistance on job development and placement, job training and support, customized employment, and other aspects of supported employment to school-based transition programs, employment service providers, employers, individuals with intellectual and developmental disabilities and their representatives, and other key stakeholders.

(ii) Providing training, including graduate, pre-service, and in-service training, to vocational rehabilitation, school-based transition programs, and other employment service providers, to achieve integrated, competitive employment outcomes for individuals with intellectual and developmental disabilities. This training may be provided through conferences, workshops, public education programs, in-service training programs, and similar activities.

(iii) Disseminating, in accessible formats, research-based information and materials related to employment for individuals with intellectual and developmental disabilities.

(iv) Involving key stakeholder groups in the activities conducted under paragraph (a) in order to maximize the relevance and usability of the new knowledge generated by the RRTC. Such stakeholder groups may vary depending on the specific activity proposed, but could include representatives of agencies such as the State Developmental Disabilities program/service agencies, State Developmental Disability Planning Councils, State Protection and Advocacy Agencies, State Vocational Rehabilitation agencies, State Employment First coalitions, as well as consumer advocacy agencies such as The Arc, UCP, TASH, and People First.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only upon a reasoned determination that its benefits would justify its costs. In choosing among alternative regulatory approaches, we selected those approaches that would maximize net benefits. Based on the analysis that follows, the Department believes that these proposed priorities are consistent with the principles in Executive Order 13563.

We also have determined that this regulatory action would not unduly interfere with State, local, and tribal governments in the exercise of their governmental functions.

In accordance with both Executive Orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to the RRTCs have been completed successfully, and the proposed priorities will generate new knowledge through research. The new RRTCs will generate, disseminate, and promote the use of new information that would improve outcomes for individuals with disabilities in the areas of community living and participation, employment, and health and function.

Intergovernmental Review: This program is not subject to Executive Order 12372 and the regulations in 34 CFR part 79.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 26, 2014.
Michael K. Yudin,
Acting Assistant Secretary for Special Education and Rehabilitative Services.

[FR Doc. 2014-04641 Filed 2-28-14; 8:45 am]

BILLING CODE 4000-01-P